DEPARTMENT OF THE INTERIOR

Bureau of Land Management

[16X LLAK910000.L13100000.DB0000.LXSINSSI0000]

Notice of Public Meeting, North Slope Science Initiative—Science Technical Advisory Panel

AGENCY: Bureau of Land Management Alaska, North Slope Science Initiative, Interior.

ACTION: Notice of public meeting.

SUMMARY: In accordance with the Federal Land Policy and Management Act and the Federal Advisory Committee Act, the U.S. Department of the Interior, North Slope Science Initiative (NSSI)—Science Technical Advisory Panel (STAP) will meet as indicated below.

DATES: The meeting will be held October 6 and 7, 2016, in Anchorage, Alaska. The meeting will be held in the Training Room at the Bureau of Land Management, Anchorage District Office, 4700 BLM Road, Anchorage, Alaska 99507. On Thursday October 6, the meeting will begin at 9 a.m. and end at 4:30 p.m., and on Friday October 7, it will begin at 9 a.m. and end at 3:30 p.m. There will be an opportunity for public comment on Thursday, October 6 from 4-4:30 p.m. Depending on the number of persons wishing to comment and time available, the time for individual oral comments may be limited.

FOR FURTHER INFORMATION CONTACT: Scott Guyer, Acting Deputy Director, North Slope Science Initiative, Bureau of Land Management, 222 W. Seventh Avenue, #13, Anchorage, AK 99513, (907) 271-3284 or email sguyer@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The NSSI STAP provides advice and recommendations to the NSSI Oversight Group regarding priority information needs for management decisions across the North Slope of Alaska. These priority information needs may include recommendations on inventory, monitoring, and research activities that contribute to informed resource management decisions. This meeting will include discussion and prioritization of recommendations from the scenario development project, emerging issues papers and the May 2016 Barrow Workshop. Individuals who plan to attend and need special assistance, such as sign language interpretation, transportation, or other reasonable accommodations, should contact the Acting NSSI Deputy Director. The public may present written comments to the STAP through the NSSI Acting Deputy Director. Before including your address, phone number, email address, or other personal identifying information in your comment, you should be aware that your entire comment—including your personal identifying information—may be made publicly available. While you can ask us in your comment to withhold your personal identifying information from public review, we cannot guarantee that we will be able to do so.

Steve Cohn,
Acting State Director.

[FR Doc. 2016-22701 Filed 9-20-16; 8:45 am]

BILLING CODE 4310-JA-P